DEPARTMENT OF THE INTERIOR

National Park Service

[NPS-WASO-NAGPRA- NPS0026865; PPWOCRADN0-PCU00RP14.R50000]

Notice of Inventory Completion: U.S. Army Corps of Engineers, Albuquerque District, Trinidad Lake, CO

AGENCY: National Park Service, Interior.

ACTION: Notice.

SUMMARY: The U.S. Army Corps of Engineers, Albuquerque District, has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the U.S. Army Corps of Engineers, Albuquerque District. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the U.S. Army Corps of Engineers, Albuquerque District, at the address in this notice by December 14, 2018.

ADDRESSES: U.S. Army Corps of Engineers, Albuquerque District, ATTN: George MacDonell, 4101 Jefferson Plaza NE, Albuquerque, NM 87109, telephone (505) 342-3281, email George.H.Macdonell@usace.army.mil.

SUPPLEMENTARY INFORMATION: Notice is here given in accordance with the Native American Graves Protection and Repatriation Act (NAGPRA), 25 U.S.C. 3003, of the completion of an inventory of human remains and associated funerary objects under the control of the U.S. Army Corps of Engineers, Albuquerque District. The human remains and associated funerary objects were removed from fee-titled property at Trinidad Lake, Las Animas County, CO.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Albuquerque District professional staff in consultation with representatives of the Apache Tribe of Oklahoma; Arapaho Tribe of the Wind River Reservation, Wyoming; Cheyenne and Arapaho Tribes, Oklahoma (previously listed as the Cheyenne-Arapaho Tribes of Oklahoma); Comanche Nation, Oklahoma; Fort Sill Apache Tribe of Oklahoma; Hopi Tribe of Arizona; Jicarilla Apache Nation, New Mexico; Kewa Pueblo, New Mexico (previously listed as the Pueblo of Santo Domingo); Kiowa Indian Tribe of Oklahoma; Mescalero Apache Tribe of the Mescalero Reservation, New Mexico; Navajo Nation, Arizona, New Mexico & Utah; Northern Cheyenne Tribe of the Northern Cheyenne Indian Reservation, Montana; Ohkay Owingeh, New Mexico (previously listed as the Pueblo of San Juan); Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Tribe of the Southern Ute Reservation, Colorado; Ute Mountain Ute Tribe (previously listed as the Ute Mountain Tribe of the Ute Mountain Reservation, Colorado, New Mexico & Utah); White Mountain Apache Tribe of the Fort Apache Reservation, Arizona; Wichita and Affiliated Tribes (Wichita, Keechi, Waco & Tawakonie), Oklahoma; Ysleta del Sur Pueblo (previously listed as the Ysleta Del Sur Pueblo of Texas); and Zuni Tribe of the Zuni Reservation, New Mexico, hereafter referred to as “The Consulting Tribes.”

History and Description of the Remains

Between 1963 and 1976, human remains representing, at minimum, nine individuals were removed from the Leone Bluff site, 5LA1211, in Las Animas County, CO. Excavations at the site were undertaken in advance of the construction of Trinidad Dam and Reservoir by Trinidad State Junior College archeologists Galen Baker (1963, 1965), Edwin Guilinger (1967), Stephen Ireland (1969-1972), and Gerald Bair (1975, 1976). All human remains and associated funerary objects have been stored at the Louden-Henritze Archeology Museum in Trinidad, CO, since their excavation. Individuals from the Leone Bluff site include an adult female, adult male, two infants of undetermined sex, four adolescents of undetermined sex, and an adult of undetermined sex. No known individuals were identified. The 19 associated funerary objects are: two groundstone implements, one lithic core, one lithic flake, two incised bone beads, three lots of fire-cracked rock fragments, one lot of burned jacal, one lot of bone and seed beads, one lot of snail beads, three lots of unidentified animal bone, two small lots of charcoal, one lot of micro lithic debitage, and one lot of organic material from flotation samples.

In 1963, human remains representing, at minimum, two individuals were removed from archeological site 5LA1413 in Las Animas County, CO. Excavations at the site were undertaken in advance of the construction of Trinidad Dam and Reservoir by Trinidad State Junior College archeologist Galen Baker. All human remains have been stored at the Louden-Henritze Archeology Museum in Trinidad, CO, since their excavation. The two individuals include a young adult female and an infant of undetermined sex. No known individuals were identified. No associated funerary objects are present.

In 1952 and 1953, human remains representing, at minimum, one individual were removed from archeological site 5LA1415 in Las Animas County, CO. Excavations at the site were undertaken in advance of the construction of Trinidad Dam and Reservoir by archeologist Haldon Chase. All human remains have been stored at the Louden-Henritze Archeology Museum in Trinidad, CO, since their excavation. The individual is an adult of undetermined sex. No known individuals were identified. No associated funerary objects are present.

Between 1954 and 1977, human remains representing, at minimum, 21 individuals were removed from the Sopris archeological site, 5LA1416, in Las Animas County, CO. Archeological investigations, including excavation, were undertaken at the site in advance of the construction of Trinidad Dam and Reservoir starting in 1954 and 1957 by Herb Dick, and followed by Trinidad State Junior College archeologists Galen Baker (1964, 1965), Stephen Ireland (1970, 1971, 1972, 1974), and Gerald Bair (1975, 1976, 1977). All human remains and associated funerary objects have been stored at the Louden-Henritze Archeology Museum in Trinidad, CO, since their excavation. The 21 individuals include three infants of undetermined sex, two children of undetermined sex, two adolescents of undetermined sex, three adolescent females, one young adult of undetermined sex, one young adult male, one adult female, six adult males, and two adults of undetermined sex. No known individuals were identified. The 2,349 associated funerary objects are: 26 pieces of lithic debitage, three projectile points, one lithic biface tool, 16 faunal remains, 603 bone beads, five incised bone beads, 1,475 snail shell beads, 10 seed beads, three bone wrenches, one bone awl, 36 pottery sherds, two corn cobs, one antler tine fragment, one piece of graphite, four snail shells, 43 lots of basket and matting impressions in soil, seven lots of bulks soil samples form burials, 33 lots of unsorted flotation samples taken from burials, two lots of snail shells, one lot of shell beads, two lots of shell fragments, seven lots of snail shell beads, 17 lots of bone beads, five lots of seed beads, eight lots of seeds, 11 lots of lithic debitage, three lots of charcoal, four lots of mixed fire-cracked rock and charcoal, three lots of corn cobs, and 16 lots of faunal remains.

In 1963, human remains representing, at minimum, three individuals were removed from archeological site 5LA1418 in Las Animas County, CO. Excavations at the site were undertaken in advance of the construction of Trinidad Dam and Reservoir by Trinidad State Junior College archeologist Galen Baker. All human remains have been stored at the Louden-Henritze Archeology Museum in Trinidad, CO, since their excavation. The three individuals include an infant of undetermined sex, an adolescent of undetermined sex, and an adult male. No known individuals were identified. No associated funerary objects are present.

In 1964 and 1968, human remains representing, at minimum, five individuals were removed from the Messina Bluff site, 5LA1424, in Las Animas County, CO. Excavations at the site were undertaken in advance of the construction of Trinidad Dam and Reservoir by Trinidad State Junior College archeologists Galen Baker (1964) and Edwin Guilinger (1968). All human remains and associated funerary objects have been stored at the Louden-Henritze Archeology Museum in Trinidad, CO, since their excavation. Individuals from the Messina Bluff Site include two infants of undetermined sex, two adolescents of undetermined sex, and an adult of undetermined sex. No known individuals were identified. The seven associated funerary objects are one groundstone mano, one lithic flake, one lithic biface, one lithic core, and three faunal bones.

Between 1950 and 1972, human remains representing, at minimum, one individual were removed from archeological site 5LA1426 in Las Animas County, CO. Excavation and site collection at the site were undertaken in advance of the construction of Trinidad Dam and Reservoir by Trinidad State Junior College archeologists. All human remains have been stored at the Louden-Henritze Archeology Museum in Trinidad, CO, since their excavation. The single individual is an adolescent of undetermined sex. No known individuals were identified. No associated funerary objects are present.

In 1967, human remains representing, at minimum, one individual were removed from archeological site 5LA1450 in Las Animas County, CO. Excavation at the site was undertaken in advance of the construction of Trinidad Dam and Reservoir by Trinidad State Junior College archeologist Edwin Guilinger. All human remains have been stored at the Louden-Henritze Archeology Museum in Trinidad, CO, since their excavation. The single individual is an adolescent of undetermined sex. No known individuals were identified. No associated funerary objects are present.

In 1970, human remains representing, at minimum, two individuals were removed from archeological site 5LA1478 in Las Animas County, CO. Excavation at the site was undertaken by Trinidad State Junior College archeologist Stephen Ireland due to the discovery of human burials during gravel quarry operations. All human remains and associated funerary objects have been stored at the Louden-Henritze Archeology Museum in Trinidad, CO, since their excavation. The individuals include a middle-aged, adult female and an adolescent female. No known individuals were identified. The 188 associated funerary objects are: One shell pendant, 166 bone beads, 13 animal bone fragments, three lithic flakes, one groundstone mano, one polishing stone, one burned corn cob, one seed/nut hull, and one lot of animal bone fragments.

In 1963, human remains representing, at minimum, one individual were removed from archeological site 5LA1523 in Las Animas County, CO. Excavations at the site were undertaken in advance of the construction of Trinidad Dam and Reservoir by Trinidad State Junior College archeologist Galen Baker. All human remains have been stored at the Louden-Henritze Archeology Museum in Trinidad, CO, since their excavation. The single individual is a young adult female. No known individuals were identified. No associated funerary objects are present.

Between 1950 and 1974, human remains representing, at minimum, one individual were removed from the Blasi Place archeological site in Las Animas County, CO. Excavation at the site was undertaken by archeologist Herb Dick due to the inadvertent discovery of a human burial. All human remains have been stored at the Louden-Henritze Archeology Museum in Trinidad, CO since their excavation. The individual is an adolescent of undetermined sex. No known individuals were identified. No associated funerary objects are present.

Determinations Made by the U.S. Army Corps of Engineers, Albuquerque District

Officials of the U.S. Army Corps of Engineers, Albuquerque District have determined that:

• Pursuant to 25 U.S.C. 3001(9), the human remains described in this notice are Native American based on morphological characteristics of the skeletal remains, archeological context, and diagnostic artifacts associated with the human remains.

• Pursuant to 25 U.S.C. 3001(9), the human remains described in this notice represent the physical remains of 48 individuals of Native American ancestry.

• Pursuant to 25 U.S.C. 3001(3)(A), the 2,563 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Jicarilla Apache Nation, New Mexico.

• Treaties in 1851 and 1865 indicate that the land from which the Native American human remains and associated funerary objects were removed is the aboriginal land of the Arapaho Tribe of the Wind River Reservation, Wyoming; Cheyenne and Arapaho Tribes, Oklahoma (previously listed as the Cheyenne-Arapaho Tribes of Oklahoma); Comanche Nation, Oklahoma; and the Kiowa Indian Tribe of Oklahoma.

• Pursuant to 43 CFR 10.11(c)(1), the disposition of the human remains and associated funerary objects may be to the Arapaho Tribe of the Wind River Reservation, Wyoming; Cheyenne and Arapaho Tribes, Oklahoma (previously listed as the Cheyenne-Arapaho Tribes of Oklahoma); Comanche Nation, Oklahoma; Jicarilla Apache Nation, New Mexico; and the Kiowa Indian Tribe of Oklahoma.

Additional Requestors and Disposition

Representatives of any Indian Tribe or Native Hawaiian organization not identified in this notice that wish to request transfer of control of these human remains and associated funerary objects should submit a written request with information in support of the request to U.S. Army Corps of Engineers, Albuquerque District, ATTN: George MacDonell, 4101 Jefferson Plaza NE, Albuquerque, NM 87109, telephone (505) 342-3281, email George.H.Macdonell@usace.army.mil, by December 14, 2018. After that date, if no additional requestors have come forward, transfer of control of the human remains and associated funerary objects to the Arapaho Tribe of the Wind River Reservation, Wyoming; Cheyenne and Arapaho Tribes, Oklahoma (previously listed as the Cheyenne-Arapaho Tribes of Oklahoma); Comanche Nation, Oklahoma; Jicarilla Apache Nation, New Mexico; and the Kiowa Indian Tribe of Oklahoma may proceed.

The U.S. Army Corps of Engineers, Albuquerque District is responsible for notifying The Consulted Tribes that this notice has been published.

Dated: October 22, 2018.
Melanie O'Brien,
Manager, National NAGPRA Program.

[FR Doc. 2018-24765 Filed 11-13-18; 8:45 am]

BILLING CODE 4312-52-P